DEPARTMENT OF THE INTERIOR

National Park Service

[NPS-WASO-NAGPRA-NPS0032397; PPWOCRADN0-PCU00RP14.R50000]

Notice of Inventory Completion: Peabody Museum of Archaeology and Ethnology, Harvard University, Cambridge, MA

AGENCY: National Park Service, Interior.

ACTION: Notice.

SUMMARY: The Peabody Museum of Archaeology and Ethnology, Harvard University (Peabody Museum) has completed an inventory of human remains and associated funerary objects, in consultation with the appropriate Indian Tribes or Native Hawaiian organizations, and has determined that there is no cultural affiliation between the human remains and associated funerary object and any present-day Indian Tribes or Native Hawaiian organizations. Representatives of any Indian Tribe or Native Hawaiian organization not identified in this notice that wish to request transfer of control of these human remains and associated funerary object should submit a written request to the Peabody Museum of Archaeology and Ethnology. If no additional requestors come forward, transfer of control of the human remains and associated funerary object to the Indian Tribes or Native Hawaiian organizations stated in this notice may proceed.

DATES: Representatives of any Indian Tribe or Native Hawaiian organization not identified in this notice that wish to request transfer of control of these human remains and associated funerary object should submit a written request with information in support of the request to the Peabody Museum of Archaeology and Ethnology at the address in this notice by September 10, 2021.

FOR FURTHER INFORMATION CONTACT: Patricia Capone, Peabody Museum of Archaeology and Ethnology, Harvard University, 11 Divinity Avenue, Cambridge, MA 02138, telephone (617) 496-3702, email pcapone@fas.harvard.edu.

SUPPLEMENTARY INFORMATION: Notice is here given in accordance with the Native American Graves Protection and Repatriation Act (NAGPRA), 25 U.S.C. 3003, of the completion of an inventory of human remains and an associated funerary object under the control of the Peabody Museum of Archaeology and Ethnology, Harvard University, Cambridge, MA. The human remains and associated funerary object were removed from Mercer, Burlington, and Monmouth Counties, NJ.

This notice is published as part of the National Park Service's administrative responsibilities under NAGPRA, 25 U.S.C. 3003(d)(3) and 43 CFR 10.11(d). The determinations in this notice are the sole responsibility of the museum, institution, or Federal agency that has control of the Native American human remains and associated funerary object. The National Park Service is not responsible for the determinations in this notice.

Consultation

A detailed assessment of the human remains and associated funerary object was made by the Peabody Museum of Archaeology and Ethnology professional staff in consultation with representatives of the Delaware Nation, Oklahoma; Delaware Tribe of Indians; and the Stockbridge Munsee Community, Wisconsin.

History and Description of the Remains

In 1905, human remains representing, at minimum, one individual were removed from Lalor Field in Mercer County, NJ, by Ernest Volk as part of a Peabody Museum expedition. Volk removed the human remains from an unknown provenience within Lalor Field. The human remains are fragmentary cranial remains of an adult of indeterminate sex and age. No known individual was identified. No associated funerary objects are present.

Between 1910 and 1912, human remains representing, at minimum, one individual were removed from an unknown location in Trenton in Mercer County, NJ, by Charles C. Abbott and his son Richard (Dick) M. Abbott. Charles C. Abbott donated the human remains to the Peabody Museum in 1912. The human remains are fragmentary postcranial remains of an adult of indeterminate sex and age. No known individual was identified. No associated funerary objects are present.

In 1882, human remains representing, at minimum, one individual were removed from a gravel deposit at an unknown location in Trenton in Mercer County, NJ, by Charles C. Abbott as part of a Peabody Museum expedition. The human remains are fragmentary cranial remains of an adult of indeterminate sex and age. No known individual was identified. No associated funerary objects are present.

On April 18, 1884, human remains representing, at minimum, one individual were removed from a railroad cut in Trenton in Mercer County, NJ, by Charles C. Abbott as part of a Peabody Museum expedition. The human remains were originally encountered by workmen digging a cut for the railroad in Trenton. The workmen excavated the human remains and later reconstructed for Abbott the original location of the human remains. The human remains lay in either “ferruginous sand” or gravel 16 feet below the surface. The human remains are fragmentary cranial remains of an adult of indeterminate sex and age. No known individual was identified. No associated funerary objects are present.

In April 1886, human remains representing, at minimum, one individual were removed from a railroad cut in Trenton in Mercer County, NJ, by Charles C. Abbott. Abbott donated the human remains to the Peabody Museum on May 6, 1886. The human remains were removed from the railroad cut east of the Pennsylvania Railroad passenger station, where they lay in gravel 11 feet below the surface. The human remains are fragmentary cranial remains of an adult of indeterminate sex and age. No known individual was identified. No associated funerary objects are present.

On September 10, 1895, human remains representing, at minimum, one individual were removed by Charles C. Abbott from the roadside southeast of his house in Mercer County, NJ. Abbott donated the human remains to the Peabody Museum on September 21, 1895. The human remains lay in gravel. The human remains are fragmentary cranial remains of an adult of indeterminate age who is probably male. No known individual was identified. No associated funerary objects are present.

Around 1897, human remains representing, at minimum, two individuals were removed from an unknown site on the “Assiscunk Creek” approximately three miles from Burlington in Burlington County, NJ, by Stacy Scott. Scott conveyed the human remains to Charles C. Abbott at an unknown date, and Abbott donated the human remains to the Peabody Museum in 1913. The human remains are the partial cranial remains of an adult male between the ages of 20 and 40 years old and the partial cranial remains of a subadult between the ages of 16 and 20 years old who is probably female. No known individuals were identified. No associated funerary objects are present.

Between 1858 and 1887, human remains representing, at minimum, one individual were removed from “near Hornerstown” in Monmouth County, NJ, by Samuel Lockwood. Lockwood sold the human remains to the Peabody Museum in 1888. The human remains are the fragmentary cranial and postcranial remains of an adult of indeterminate sex and age. No known individual was identified. The one associated funerary object is a corner-notched biface.

Determinations Made by the Peabody Museum of Archaeology and Ethnology, Harvard University

Officials of the Peabody Museum of Archaeology and Ethnology, Harvard University have determined that:

• Pursuant to 25 U.S.C. 3001(9), the human remains described in this notice are Native American based on osteological analysis, archeological context, and museum records.

• Pursuant to 25 U.S.C. 3001(9), the human remains described in this notice represent the physical remains of nine individuals of Native American ancestry.

• Pursuant to 25 U.S.C. 3001(3)(A), the one object described in this notice is reasonably believed to have been placed with or near individual human remains at the time of death or later as part of the death rite or ceremony.

• Pursuant to 25 U.S.C. 3001(2), a relationship of shared group identity cannot be reasonably traced between the Native American human remains and associated funerary object and any present-day Indian Tribe.

• Treaties, Acts of Congress, or Executive Orders, indicate that the land from which the Native American human remains and associated funerary object were removed is the aboriginal land of the Delaware Nation, Oklahoma; Delaware Tribe of Indians; and the Stockbridge Munsee Community, Wisconsin (hereafter referred to as “The Tribes”).

• Pursuant to 43 CFR 10.11(c)(1), the disposition of the human remains and associated funerary object may be to The Tribes.

Additional Requestors and Disposition

Representatives of any Indian Tribe or Native Hawaiian organization not identified in this notice that wish to request transfer of control of these human remains and associated funerary object should submit a written request with information in support of the request to Patricia Capone, Peabody Museum of Archaeology and Ethnology, Harvard University, 11 Divinity Avenue, Cambridge, MA 02138, telephone (617) 496-3702, email pcapone@fas.harvard.edu, by September 10, 2021. After that date, if no additional requestors have come forward, transfer of control of the human remains and associated funerary object to The Tribes may proceed.

The Peabody Museum of Archaeology and Ethnology, Harvard University is responsible for notifying The Tribes that this notice has been published.

Dated: July 28, 2021.
Melanie O'Brien,
Manager, National NAGPRA Program.

[FR Doc. 2021-17063 Filed 8-10-21; 8:45 am]

BILLING CODE 4312-52-P